DEPARTMENT OF ENERGY

Federal Energy Regulatory Commission

Combined Notice of Filings #1

Take notice that the Commission received the following electric corporate filings:

Docket Numbers: EC22-84-000.

Applicants: Clearway Energy Group LLC.

Description: Joint Application for Authorization Under Section 203 of the Federal Power Act of Clearway Energy LLC.

Filed Date: 7/1/22.

Accession Number: 20220701-5436.

Comment Date: 5 p.m. ET 7/22/22.

Take notice that the Commission received the following electric rate filings:

Docket Numbers: ER10-2606-015; ER17-815-004.

Applicants: Verso Escanaba LLC, Consolidated Water Power Company.

Description: Notice of Non-Material Change in Status of Consolidated Water Power Company, et al.

Filed Date: 7/5/22.

Accession Number: 20220705-5053.

Comment Date: 5 p.m. ET 7/26/22.

Docket Numbers: ER13-520-013; ER10-2605-017; ER10-2984-058; ER12-1626-014; ER13-521-013; ER13-1266-040; ER13-1267-013; ER13-1268-013; ER13-1269-013; ER13-1270-013; ER13-1271-013; ER13-1272-013; ER13-1273-013; ER13-1441-013; ER13-1442-013; ER15-2211-038; ER22-1385-001.

Applicants: BHER Market Operations, LLC., MidAmerican Energy Services, LLC, Solar Star California XX, LLC, Solar Star California XIX, LLC, Vulcan/BN Geothermal Power Company, Salton Sea Power L.L.C., Salton Sea Power Generation Company, Fish Lake Power LLC, Elmore Company, Del Ranch Company, CE Leathers Company, CalEnergy, LLC, Pinyon Pines Wind II, LLC, Topaz Solar Farms LLC, Merrill Lynch Commodities, Inc., Yuma Cogeneration Associates, Pinyon Pines Wind I, LLC.

Description: Triennial Market Power Analysis for Southwest Region of Pinyon Pines Wind I, LLC, et al.

Filed Date: 6/29/22.

Accession Number: 20220629-5198.

Comment Date: 5 p.m. ET 8/29/22.

Docket Numbers: ER14-2666-006; ER15-1218-013; ER16-38-011; ER16-39-010; ER16-2501-007; ER16-2502-007; ER17-157-006; ER17-2341-008; ER17-2453-007; ER18-713-006; ER18-1775-005; ER20-2888-005.

Applicants: Townsite Solar, LLC,64KT 8me LLC, CA Flats Solar 150, LLC, Imperial Valley Solar 3, LLC, CA Flats Solar 130, LLC, Moapa Southern Paiute Solar, LLC, Tropico, LLC, Nicolis, LLC, Kingbird Solar B, LLC, Kingbird Solar A, LLC, Solar Star California XIII, LLC, Avalon Solar Partners, LLC.

Description: Triennial Market Power Analysis for Southwest Region of Avalon Solar Partners, LLC, et al.

Filed Date: 6/30/22.

Accession Number: 20220630-5362.

Comment Date: 5 p.m. ET 8/29/22.

Docket Numbers: ER20-2471-005.

Applicants: NedPower Mount Storm, LLC.

Description: Compliance filing: NedPower Mount Storm LLC submits tariff filing per 35: Informational Filing Regarding Transfer of Ownership to be effective N/A.

Filed Date: 7/5/22.

Accession Number: 20220705-5068.

Comment Date: 5 p.m. ET 7/26/22.

Docket Numbers: ER20-547-006; ER12-1911-005; ER12-1912-005; ER12-1913-005; ER12-1915-005; ER12-1916-005; ER12-1917-005; ER14-41-007; ER14-42-007; ER16-498-006; ER16-499-006; ER16-500-006; ER20-2448-002; ER21-133-002; ER21-736-003; ER21-1962-003; ER21-2634-001.

Applicants: Solar Star Lost Hills, LLC, Mulberry BESS LLC, RE Slate 1 LLC, HDSI, LLC, American Kings Solar, LLC, RE Mustang 4 LLC, RE Mustang 3 LLC, RE Mustang LLC, RE Rosamond Two LLC, RE Rosamond One LLC, RE McKenzie 6 LLC, RE McKenzie 5 LLC, RE McKenzie 4 LLC, RE McKenzie 3 LLC, RE McKenzie 2 LLC, RE McKenzie 1 LLC, Goldman Sachs Renewable Power Marketing LLC.

Description: Triennial Market Power Analysis for Southwest Region of Goldman Sachs Renewable Power Marketing LLC, et al.

Filed Date: 6/29/22.

Accession Number: 20220629-5197.

Comment Date: 5 p.m. ET 8/29/22.

Docket Numbers: ER22-507-001.

Applicants: Pinnacle Wind, LLC.

Description: Compliance filing: Informational Filing Regarding Upstream Change in Ownership to be effective N/A.

Filed Date: 7/5/22.

Accession Number: 20220705-5090.

Comment Date: 5 p.m. ET 7/26/22.

Docket Numbers: ER22-944-002.

Applicants: Black Rock Wind Force, LLC.

Description: Compliance filing: Informational Filing Regarding Upstream Change in Ownership to be effective N/A.

Filed Date: 7/5/22.

Accession Number: 20220705-5086.

Comment Date: 5 p.m. ET 7/26/22.

Docket Numbers: ER22-1991-001.

Applicants: New England Power Pool Participants Committee.

Description: Tariff Amendment: Correction Filing ER22-1991 to be effective 5/1/2022.

Filed Date: 7/5/22.

Accession Number: 20220705-5000.

Comment Date: 5 p.m. ET 7/26/22.

Docket Numbers: ER22-2281-000.

Applicants: Southwest Power Pool, Inc.

Description: § 205(d) Rate Filing: 1148R32 American Electric Power NITSA and NOAs to be effective 6/1/2022.

Filed Date: 7/1/22.

Accession Number: 20220701-5389.

Comment Date: 5 p.m. ET 7/22/22.

Docket Numbers: ER22-2282-000.

Applicants: Southwest Power Pool, Inc.

Description: § 205(d) Rate Filing: 1276R26 Evergy Metro NITSA NOA to be effective 7/1/2022.

Filed Date: 7/1/22.

Accession Number: 20220701-5401.

Comment Date: 5 p.m. ET 7/22/22.

Docket Numbers: ER22-2283-000.

Applicants: Black Bear Alabama Solar 1, LLC.

Description: Baseline eTariff Filing: Market-Based Rate Tariff Application with Expedited & Confidential Treatment to be effective 7/31/2022.

Filed Date: 7/5/22.

Accession Number: 20220705-5074.

Comment Date: 5 p.m. ET 7/26/22.

Docket Numbers: ER22-2284-000.

Applicants: Black Bear Alabama Solar Tenant, LLC.

Description: Baseline eTariff Filing: Market-Based Rate Tariff Application with Expedited & Confidential Treatment to be effective 7/31/2022.

Filed Date: 7/5/22.

Accession Number: 20220705-5077.

Comment Date: 5 p.m. ET 7/26/22.

Docket Numbers: ER22-2285-000.

Applicants: PJM Interconnection, L.L.C.

Description: Tariff Amendment: Notice of Cancellation of Original WMPA SA No. 5668; Queue No. AE2-079 to be effective 8/6/2022.

Filed Date: 7/5/22.

Accession Number: 20220705-5117.

Comment Date: 5 p.m. ET 7/26/22.

Docket Numbers: ER22-2286-000.

Applicants: PJM Interconnection, L.L.C.

Description: Tariff Amendment: Notice of Cancellation of Original WMPA SA No. 5667; Queue No. AE2-078 to be effective 8/6/2022.

Filed Date: 7/5/22.

Accession Number: 20220705-5132.

Comment Date: 5 p.m. ET 7/26/22.

Take notice that the Commission received the following electric securities filings:

Docket Numbers: ES22-51-000.

Applicants: Ameren Illinois Company.

Description: Application Under Section 204 of the Federal Power Act for Authorization to Issue Securities of Ameren Services Company.

Filed Date: 6/30/22.

Accession Number: 20220630-5366.

Comment Date: 5 p.m. ET 7/21/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 5, 2022.
Debbie-Anne A. Reese,
Deputy Secretary.

[FR Doc. 2022-14690 Filed 7-8-22; 8:45 am]

BILLING CODE 6717-01-P